DEPARTMENT OF ENERGY

Federal Energy Regulatory Commission

Combined Notice of Filings #2

Take notice that the Commission received the following electric rate filings:

Docket Numbers: ER10-2460-004; ER10-2461-004; ER12-682-005; ER10-2463-004; ER11-2201-008; ER13-17-002; ER12-1311-004 ER10-2466-005; ER11-4029-004.

Applicants: Canandaigua Power Partners, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Notice of Change in Status of Canandaigua Power Partners, LLC, et al.

Filed Date: 1/23/13.

Accession Number: 20130123-5127.

Comments Due: 5 p.m. ET 2/13/13.

Docket Numbers: ER11-4507-003; ER13-760-000; ER11-4501-004; ER12-128-001; ER13-759-000; ER11-4500-003; ER13-758-000; ER12-979-002; ER11-4498-003; ER11-4499-003.

Applicants: Caney River Wind Project, LLC, Rocky Ridge Wind Project, LLC, Smoky Hills Wind Farm, LLC, Smoky Hills Wind Project II, LLC, Canastota Windpower, LLC, EGP Stillwater Solar, LLC, Enel Stillwater, LLC.

Description: Supplement to January 15, 2013 Notice of Change in Status of Smokey Hills Wind Farm, LLC, et al.

Filed Date: 1/18/13.

Accession Number: 20130118-5259.

Comments Due: 5 p.m. ET 2/8/13.

Docket Numbers: ER12-281-002.

Applicants: Northampton Generating Company, L.P.

Description: Notice of Non-Material Change in Status of Northampton Generating Company, L.P.

Filed Date: 1/22/13.

Accession Number: 20130122-5386.

Comments Due: 5 p.m. ET 2/12/13.

Docket Numbers: ER13-667-001.

Applicants: Tucson Electric Power Company.

Description: Tucson Electric Power Company submits tariff filing per 35.17(b): Errata to TEP Filing to Revise MBR Ancillary Service Category Status to be effective 2/26/2013.

Filed Date: 1/23/13.

Accession Number: 20130123-5076.

Comments Due: 5 p.m. ET 2/13/13.

Docket Numbers: ER13-668-001.

Applicants: UniSource Energy Development Company.

Description: UniSource Energy Development Company submits tariff filing per 35.17(b): Errata to UED Filing to Revise MBR Ancillary Service Category Status to be effective 2/26/2013.

Filed Date: 1/23/13

Accession Number: 20130123-5096.

Comments Due: 5 p.m. ET 2/13/13.

Docket Numbers: ER13-670-001.

Applicants: UNS Electric, Inc.

Description: UNS Electric, Inc. submits tariff filing per 35.17(b): Errata to UNS Filing to Revise MBR Ancillary Service Category Status to be effective 2/26/2013.

Filed Date: 1/23/13.

Accession Number: 20130123-5100.

Comments Due: 5 p.m. ET 2/13/13.

Docket Numbers: ER13-739-001.

Applicants: Texpo Power, LP.

Description: Texpo Power, LP submits tariff filing per 35.17(b): Amendment of Pending Filing 1 to be effective 1/11/2013.

Filed Date: 1/23/13.

Accession Number: 20130123-5084.

Comments Due: 5 p.m. ET 2/13/13.

Docket Numbers: ER13-740-001.

Applicants: EnerPenn USA LLC.

Description: EnerPenn USA LLC submits tariff filing per 35.17(b): Amendment of Pending Filing 1 to be effective 1/11/2013.

Filed Date: 1/23/13.

Accession Number: 20130123-5082.

Comments Due: 5 p.m. ET 2/13/13.

Docket Numbers: ER13-751-001.

Applicants: Midwest Independent Transmission System Operator, Inc.

Description: Midwest Independent Transmission System Operator, Inc. submits tariff filing per 35.17(b): 01-22-2013 MDU Attachment O and GG Errata to be effective 1/1/2013.

Filed Date: 1/23/13.

Accession Number: 20130123-5000.

Comments Due: 5 p.m. ET 2/13/13.

Docket Numbers: ER13-790-000.

Applicants: Nevada Power Company.

Description: Nevada Power Company submits tariff filing per 35.13(a)(2)(iii: Rate Schedule No. 111 First Amended & Restated PPA ORNI 42 to be effective 1/24/2013.

Filed Date: 1/23/13.

Accession Number: 20130123-5148.

Comments Due: 5 p.m. ET 2/13/13.

Take notice that the Commission received the following foreign utility company status filings:

Docket Numbers: FC13-7-000.

Applicants: Conestogo Wind, LP.

Description: Notification of Self-Certification of Foreign Utility Company Status of Conestogo Wind, LP.

Filed Date: 1/23/13.

Accession Number: 20130123-5135.

Comments Due: 5 p.m. ET 2/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2013.
Nathaniel J. Davis, Sr.,
Deputy Secretary.

[FR Doc. 2013-02069 Filed 1-30-13; 8:45 am]

BILLING CODE 6717-01-P